DEPARTMENT OF AGRICULTURE

Animal and Plant Health Inspection Service

[Docket No. APHIS-2012-0005]

Notice of Availability of a Pest Risk Analysis for the Importation of Litchi, Longan, and Rambutan From the Philippines Into the Continental United States

AGENCY: Animal and Plant Health Inspection Service, USDA.

ACTION: Notice of availability and request for comments.

SUMMARY: We are advising the public that we have prepared a pest risk analysis that evaluates the risks associated with the importation into the continental United States of fresh litchi, longan, and rambutan fruit from the Philippines. Based on that analysis, we believe that the application of one or more designated phytosanitary measures will be sufficient to mitigate the risks of introducing or disseminating plant pests or noxious weeds via the importation of fresh fruit of litchi, longan, and rambutan from the Philippines. We are making the pest risk analysis available to the public for review and comment.

DATES: We will consider all comments that we receive on or before May 7, 2012.

ADDRESSES: You may submit comments by either of the following methods:

• Federal eRulemaking Portal: Go to http://www.regulations.gov/#!documentDetail;D=APHIS-2012-0005-0001.

• Postal Mail/Commercial Delivery: Send your comment to Docket No. APHIS-2012-0005, Regulatory Analysis and Development, PPD, APHIS, Station 3A-03.8, 4700 River Road Unit 118, Riverdale, MD 20737-1238.

Supporting documents and any comments we receive on this docket may be viewed at http://www.regulations.gov/#!docketDetail;D=APHIS-2012-0005 or in our reading room, which is located in Room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Ms. Claudia Ferguson, Regulatory Policy Coordinator, Regulations, Permits, and Manuals, PPQ, APHIS, 4700 River Road Unit 133, Riverdale, MD 20737-1231; (301) 851-2352.

SUPPLEMENTARY INFORMATION:

Background

Under the regulations in “Subpart—Fruits and Vegetables” (7 CFR 319.56-1 through 319.56-54, referred to below as the regulations), the Animal and Plant Health Inspection Service (APHIS) of the U.S. Department of Agriculture prohibits or restricts the importation of fruits and vegetables into the United States from certain parts of the world to prevent plant pests from being introduced into and spread within the United States.

Section 319.56-4 contains a performance-based process for approving the importation of commodities that, based on the findings of a pest risk analysis, can be safely imported subject to one or more of the designated phytosanitary measures listed in paragraph (b) of that section.

APHIS received a request from the Government of the Philippines to allow the importation of fresh fruit of litchi (Litchi chinensis), longan (Dimocarpus longan), and rambutan (Nephelium lappaceum) from the Philippines into the continental United States. Currently, fresh fruits of litchi, longan, and rambutan are not authorized for entry from the Philippines. We have completed a pest risk analysis for the purpose of evaluating the pest risks associated with the importation of fresh fruit of litchi, longan, and rambutan into the continental United States. The analysis consists of a pest list identifying pests of quarantine significance that are present in the Philippines and could follow the pathway of importation into the United States and a risk management document identifying phytosanitary measures that could be applied to the commodities to mitigate the pest risk.

We have concluded that fresh fruit of litchi, longan, and rambutan can be safely imported into the continental United States from the Philippines using one or more of the five designated phytosanitary measures listed in § 319.56-4(b). The requirements for shipments of fresh fruit of litchi, longan, and rambutan from the Philippines would be as follows:

• The fresh fruit of litchi, longan, and rambutan may be imported into the continental United States in commercial consignments only;

• The fresh fruit of litchi, longan, and rambutan must be irradiated in accordance with 7 CFR part 305 with a minimum absorbed dose of 400 Gy;

• If the irradiation treatment is applied outside the United States, each consignment of fresh fruit of litchi, longan, and rambutan must be jointly inspected by APHIS and the national plant protection organization (NPPO) of the Philippines and accompanied by a phytosanitary certificate attesting that the fruit received the required irradiation treatment. In the case of fresh rambutan fruit, the phytosanitary certificate must also include an additional declaration stating that the consignment was inspected and found free of the powdery mildew Oidium nephelii;

• If irradiation is applied upon arrival in the United States, each consignment of fresh fruit of litchi, longan, and rambutan must be inspected by the NPPO of the Philippines prior to departure. In the case of fresh rambutan fruit, the phytosanitary certificate must also include an additional declaration stating that the consignment was inspected and found free of the powdery mildew Oidium nephelii; and

• The fresh fruit of litchi, longan, and rambutan are subject to inspection upon arrival at the U.S. port of entry.

Therefore, in accordance with § 319.56-4(c), we are announcing the availability of our pest risk analysis for public review and comment. The pest risk analysis may be viewed on the Regulations.gov Web site or in our reading room (see ADDRESSES above for a link to Regulations.gov and information on the location and hours of the reading room). You may request paper copies of the pest risk analysis by calling or writing to the person listed under FOR FURTHER INFORMATION CONTACT. Please refer to the subject of the pest risk analysis you wish to review when requesting copies.

After reviewing any comments we receive, we will announce our decision regarding the import status of fresh fruit of litchi, longan, and rambutan from the Philippines in a subsequent notice. If the overall conclusions of the analysis and the Administrator's determination of risk remain unchanged following our consideration of the comments, then we will authorize the importation of fresh fruit of litchi, longan, and rambutan from the Phillipines into the continental United States subject to the requirements specified in the risk management document.

Authority: 7 U.S.C. 450, 7701-7772, and 7781-7786; 21 U.S.C. 136 and 136a; 7 CFR 2.22, 2.80, and 371.3.

Done in Washington, DC, this 29th day of February 2012.
Kevin Shea,
Acting Administrator, Animal and Plant Health Inspection Service.

[FR Doc. 2012-5365 Filed 3-5-12; 8:45 am]

BILLING CODE 3410-34-P